Proclamation 9044 of October 18, 2013

National Forest Products Week, 2013

By the President of the United States of America

A Proclamation

Our Nation's forests are essential to our lasting prosperity and to who we are as a people. These natural wonders provide clean air and water for our communities and abundant habitats for wildlife, as well as building materials for our homes, and jobs and recreation for workers and families across our country. During National Forest Products Week, we celebrate the sustainable uses of America's forests and the important contributions they make to our economy and our national life.

In addition to providing renewable supplies of wood and energy and showing visitors of all ages the value of preserving our natural spaces, forests play a critical role in combatting climate change and protecting the air we breathe through absorption of carbon dioxide emissions. My Administration is committed to cutting carbon pollution in the United States, and safeguarding and restoring our forests will help us fulfill that mission. We also continue to advance community-driven conservation, preservation, and outdoor recreation initiatives that are strengthening local economies and contributing to the well-being of lands, waters, and wildlife. Through the America's Great Outdoors Initiative, we have put the communities that will thrive when lands are healthy and abundant, and when they draw visitors from around the world, at the forefront of shaping conservation agendas across our country.

The strength, diversity, and productivity of our Nation's forests will be vital to our progress in the years ahead. This week, we recommit to collaborating across land ownership and landscapes, and we look to a future where America's forests will enrich our country for generations to come.

To recognize the importance of products from our forests, the Congress, by Public Law 86-753 (36 U.S.C. 123), as amended, has designated the week beginning on the third Sunday in October of each year as “National Forest Products Week” and has authorized and requested the President to issue a proclamation in observance of this week.

NOW, THEREFORE, I, BARACK OBAMA, President of the United States of America, do hereby proclaim October 20 through October 26, 2013, as National Forest Products Week. I call on the people of the United States to join me in recognizing the dedicated individuals who are responsible for the stewardship of our forests and for the preservation, management, and use of these precious natural resources for the benefit of the American people.

IN WITNESS WHEREOF, I have hereunto set my hand this eighteenth day of October, in the year of our Lord two thousand thirteen, and of the Independence of the United States of America the two hundred and thirty-eighth.

[FR Doc. 2013-24990

Filed 10-22-13; 8:45 am]

Billing code 3295-F4